DEPARTMENT OF ENERGY

Federal Energy Regulatory Commission

[Docket No. EL01-84-000]

Salt River Project Agricultural Improvement and Power District v. California Independent System Operator Corporation; Notice of Complaint

June 4, 2001.

Take notice that on June 1, 2001, Salt River Project Agricultural Improvement and Power District (SRP) submitted a Complaint against the California Independent System Operator Corporation (CAISO) pursuant to Section 206 of the Federal Power Act (FPA) 16 U.S.C. 824e. SRP alleges that the CAISO over collected neutrality adjustment charges from SRP, for the time period January 2000 through December 31, 2000, in violation of the FPA, the rate cap contained in CAISO's tariff and orders of the Commission. SRP also alleges that the CAISO off-set these erroneous charges against payments owed by the CAISO to SRP for power supplies and that the CAISO's tariff violations are discouraging suppliers from providing wholesale power to the CAISO, contrary to the Commission's policy goals. SRP seeks refunds of the alleged over charges, plus interest calculated in accordance with the Commission's regulations.

Copies of the filing were served upon the California Independent System Operator Corporation, the California Public Utilities Commission and all parties to Cities of Anaheim, Azusa, Banning, Colton and Riverside, California v. California Independent System Operator Corporation, Docket No. EL00-111-000, where similar issues concerning the CAISO's neutrality adjustment charges were raised.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before June 21, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before June 21, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-14436 Filed 6-7-01; 8:45 am]

BILLING CODE 6717-01-M